DEPARTMENT OF THE INTERIOR

Fish and Wildlife Service

Coastal Barrier Improvement Act of 1990; Amendments to the Coastal Barrier Resources System and Otherwise Protected Areas

AGENCY: Fish and Wildlife Service, Interior.

ACTION: Notice.

SUMMARY: We, the Fish and Wildlife Service, have replaced one map depicting an otherwise protected area (OPA) in Florida, as directed by Congress. We are using this notice to inform the public about the distribution and availability of the revised map.

DATES: The boundary revisions for this OPA became effective on October 27, 2000.

FOR FURTHER INFORMATION CONTACT: Dr. Benjamin N. Tuggle, Department of the Interior, U.S. Fish and Wildlife Service, Division of Federal Program Activities, (703) 358-2161.

SUPPLEMENTARY INFORMATION:

Background

In 1982, Congress passed the Coastal Barrier Resources Act (Pub. L. 97-348) to restrict Federal spending that could foster development of undeveloped coastal barriers along the Atlantic and Gulf of Mexico coasts. In the Coastal Barrier Improvement Act of 1990 (Pub. L. 101-591), Congress amended the 1982 Act to broaden the definition of a coastal barrier, and approved a series of maps entitled “Coastal Barrier Resources System” dated October 24, 1990. These maps identify and depict those coastal barriers located on the coasts of the Atlantic Ocean, Gulf of Mexico, and the Great Lakes, and in Puerto Rico and the Virgin Islands that are subject to the Federal funding limitations outlined in the Act. The 1990 Act also approved a related series of maps depicting OPAs along the same coastlines. Unlike full System units, only Federal flood insurance is prohibited in OPAs.

The Act also defines our responsibilities regarding System and OPA maps. We have official custody of these maps, and prepare and distribute copies of the maps. We published a notice of the filing, distribution, and availability of the maps dated October 24, 1990, in the Federal Register on June 6, 1991 (56 FR 26304-26312). We have announced all subsequent map revisions in the Federal Register.

Revisions to an Otherwise Protected Area in Florida

Section 1 of Public Law 106-360, enacted on October 27, 2000, requires us to replace one OPA map. The changes affect OPA P-19P in Lee County, Florida. The changes to P-19P are designed to coincide the OPA with lands held for conservation purposes on North Captiva Island.

How To Get Copies of the Maps

The Service has given copies of the revised map to the House of Representatives Committee on Resources and the Senate Committee on Environment and Public Works, and is sending maps to the House of Representatives Committee on Banking and Financial Services and each appropriate Federal, State, and local agency having jurisdiction over the areas in which the modified units are located.

You can purchase copies of System and OPA maps from the U.S. Geological Survey, Earth Science Information Center, P.O. Box 25286, Denver, Colorado 80225. The cost is $10.00 per map, plus a $5.00 shipping and handling fee for the entire order. Maps can also be viewed at the following Fish and Wildlife Service offices:

Washington Office—all System and OPA maps, U.S. Fish and Wildlife Service, Division of Federal Program Activities, 4401 N. Fairfax Drive Room 400, Arlington, Virginia 22203, (703) 358-2183

Southeast Regional Office—all System and OPA maps for NC, SC, GA, FL, AL, MS and LA, Region 4, U.S. Fish and Wildlife Service, 1875 Century Blvd., Atlanta, Georgia 30345, (404) 679-7125

Field Office—System and OPA maps for south Florida, Field Supervisor, U. S. Fish and Wildlife Service, 360 U.S. 1, Suite 5, Vero Beach, Florida 32960, (561) 562-3909

Dated: January 22, 2001.
Marshall P. Jones, Jr.,
Acting Director, Fish and Wildlife Service.

[FR Doc. 01-4031 Filed 2-15-01; 8:45 am]

BILLING CODE 4310-55-P